DEPARTMENT OF TRANSPORTATION

Federal Aviation Administration

14 CFR Part 39

[Docket No. 2001-NM-160-AD; Amendment 39-13065; AD 2003-04-16]

RIN 2120-AA64

Airworthiness Directives; McDonnell Douglas Model MD-11 and MD-11F Airplanes

AGENCY: Federal Aviation Administration, DOT.

ACTION: Final rule.

SUMMARY: This amendment adopts a new airworthiness directive (AD), applicable to certain McDonnell Douglas Model MD-11 and MD-11F airplanes that requires an inspection to detect chafed wires in the avionics equipment compartment, and repair, if necessary. This amendment also requires replacement of the existing cover of the avionics cooling fan with a new cover, and installation of a new placard on the cover. Additionally, this amendment specifies which previously accomplished actions are acceptable for compliance with certain requirements of this AD; and clarifies the applicability, a part number, and the inspection definition. The actions specified by this AD are intended to ensure that the cover of the avionics cooling fans is removed only for fan maintenance, and to prevent smoke and/or fire in the avionics equipment compartment due to chafing and arcing as a result of maintenance personnel lying against the removed cover and/or insulation blankets that cover wire harnesses. This action is intended to address the identified unsafe condition.

DATES: Effective May 27, 2003.

The incorporation by reference of certain publications listed in the regulations is approved by the Director of the Federal Register as of May 27, 2003.

ADDRESSES: The service information referenced in this AD may be obtained from Boeing Commercial Aircraft Group, Long Beach Division, 3855 Lakewood Boulevard, Long Beach, California 90846, Attention: Data and Service Management, Dept. C1- L5A (D800-0024). This information may be examined at the Federal Aviation Administration (FAA), Transport Airplane Directorate, Rules Docket, 1601 Lind Avenue, SW., Renton, Washington; or at the FAA, Los Angeles Aircraft Certification Office, 3960 Paramount Boulevard, Lakewood, California; or at the Office of the Federal Register, 800 North Capitol Street, NW., suite 700, Washington, DC.

FOR FURTHER INFORMATION CONTACT: Technical Information: Brett Portwood, Aerospace Engineer, Systems and Equipment Branch, ANM-130L, FAA, Los Angeles Aircraft Certification Office, 3960 Paramount Boulevard, Lakewood, California 90712-4137; telephone (562) 627-5350; fax (562) 627-5210.

Other Information: Sandi Carli, Airworthiness Directive Technical Writer/Editor; telephone (425) 687-4243, fax (425) 227-1232. Questions or comments may also be sent via the Internet using the following address: sandi.carli@faa.gov. Questions or comments sent via the Internet as attached electronic files must be formatted in Microsoft Word 97 for Windows or ASCII text.

SUPPLEMENTARY INFORMATION: A proposal to amend part 39 of the Federal Aviation Regulations (14 CFR part 39) to include an airworthiness directive (AD) that is applicable to certain McDonnell Douglas MD-11 and MD-11F airplanes was published in the Federal Register on August 29, 2002 (67 FR 55362). That action proposed to require an inspection to detect chafed wires in the avionics equipment compartment, and repair, if necessary. That action also proposed to require replacement of the existing cover of the avionics cooling fan with a new cover, and installation of a new placard on the cover. Additionally, that action proposed to specify which previously accomplished actions are acceptable for compliance with certain requirements of that proposed AD; and clarify the applicability, a part number, and the inspection definition.

Since the Issuance of the NPRM

The manufacturer has released Revision 02 of Boeing Alert Service Bulletin (ASB) MD11-21A033, dated December 4, 2002. Revision 02 of the ASB made certain editorial and cost information changes, but states that no more work is necessary on airplanes on which Revision 01 has been accomplished. We have determined that accomplishing the actions specified in Revision 02 of the ASB is an adequate method of compliance to the requirements of the final rule, and have revised the final rule accordingly.

Explanation of Editorial Change

We have changed the citation for Boeing Alert Service Bulletin MD11-21A033, Revision 01, dated April 30, 2001, throughout this final rule to exclude the Evaluation Form. (The form is intended to be completed by operators and submitted to the manufacturer to provide input on the quality of the service bulletin; however, this AD does not include such a requirement.)

Opportunity To Comment

Interested persons have been afforded an opportunity to participate in the making of this amendment. No comments were submitted in response to the proposal or the FAA's determination of the cost to the public.

Conclusion

After careful review of the available data, including the comments noted above, the FAA has determined that air safety and the public interest require the adoption of the rule with the changes described previously. The FAA has determined that these changes will neither increase the economic burden on any operator nor increase the scope of the AD.

Cost Impact

There are approximately 80 Model MD-11 and MD-11F airplanes of the affected design in the worldwide fleet. The FAA estimates that 33 airplanes of U.S. registry will be affected by this AD, that it will take approximately 4 work hours per airplane to accomplish the required actions, and that the average labor rate is $60 per work hour. Required parts will cost approximately $1,991 per airplane. Based on these figures, the cost impact of the AD on U.S. operators is estimated to be $73,623, or $2,231 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2003-04-16 McDonnell Douglas: Amendment 39-13065. Docket 2001-NM-160-AD.

Applicability: Model MD-11 and MD-11F airplanes, as listed in Boeing Alert Service Bulletin MD11-21A033, Revision 01, dated April 30, 2001; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if the unsafe condition has not been eliminated, the request should include specific proposed actions to address it.

Compliance: Required as indicated, unless accomplished previously.

To ensure that the cover of the avionics cooling fans is removed only for fan maintenance, and to prevent smoke and/or fire in the avionics equipment compartment due to chafing and arcing as a result of maintenance personnel lying against the removed cover and/or insulation blankets that cover wire harnesses, accomplish the following:

Inspection and Repair if Necessary

(a) Within 18 months after the effective date of this AD, do a general visual inspection to detect chafed wires in the area of the avionics cooling fans inside the avionics equipment compartment, per Boeing Alert Service Bulletin MD11-21A033, Revision 01, dated April 30, 2001, excluding Evaluation Form or Revision 02, dated December 4, 2002, excluding Evaluation Form. If any chafed wiring is detected, before further flight, repair per the service bulletin.

Note 2: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

Replacement of a Cover and Installation of a New Placard

(b) Within 18 months after the effective date of this AD, replace the existing cover of the avionics cooling fan with a new cover, and install a new placard on the cover, per Boeing Alert Service Bulletin MD11-21A033, Revision 01, dated April 30, 2001, excluding Evaluation Form or Revision 02, dated December 4, 2002. The replacement must be done with part numbers that are specified in View C-C, Figure 1, of the service bulletin.

(c) Accomplishment of the actions specified in McDonnell Douglas Service Bulletin MD11-21-033, dated May 1, 1992, before the effective date of this AD, is considered acceptable for compliance with the requirements of paragraph (b) of this AD.

Spares

(d) As of the effective date of this AD, no person shall install a cover assembly, part number ABM7569-1, on any airplane.

Alternative Methods of Compliance

(e) An alternative method of compliance or adjustment of the compliance time that provides an acceptable level of safety may be used if approved by the Manager, Los Angeles Aircraft Certification Office (ACO), FAA. Operators shall submit their requests through an appropriate FAA Principal Maintenance Inspector, who may add comments and then send it to the Manager, Los Angeles ACO.

Note 3: Information concerning the existence of approved alternative methods of compliance with this AD, if any, may be obtained from the Los Angeles ACO.

Special Flight Permits

(f) Special flight permits may be issued in accordance with sections 21.197 and 21.199 of the Federal Aviation Regulations (14 CFR 21.197 and 21.199) to operate the airplane to a location where the requirements of this AD can be accomplished.

Incorporation by Reference

(g) Unless otherwise specified by this AD, the actions shall be done in accordance with Boeing Alert Service Bulletin MD11-21A033, Revision 01, dated April 30, 2001, excluding Evaluation Form or Boeing Alert Service Bulletin MD11-21A033, Revision 02, dated December 4, 2002. This incorporation by reference was approved by the Director of the Federal Register in accordance with 5 U.S.C. 552(a) and 1 CFR part 51. Copies may be obtained from Boeing Commercial Aircraft Group, Long Beach Division, 3855 Lakewood Boulevard, Long Beach, California 90846, Attention: Data and Service Management, Dept. C1-L5A (D800-0024). Copies may be inspected at the FAA, Transport Airplane Directorate, 1601 Lind Avenue, SW., Renton, Washington; or at the FAA, Los Angeles Aircraft Certification Office, 3960 Paramount Boulevard, Lakewood, California; or at the Office of the Federal Register, 800 North Capitol Street, NW., suite 700, Washington, DC.

Effective Date

(h) This amendment becomes effective on May 27, 2003.

Issued in Renton, Washington, on April 10, 2003.
Ali Bahrami,
Acting Manager, Transport Airplane Directorate, Aircraft Certification Service.

[FR Doc. 03-9426 Filed 4-18-03; 8:45 am]

BILLING CODE 4910-13-P